DEPARTMENT OF ENERGY

Federal Energy Regulatory Commission

[Project No. 12470-001]

City of Broken Bow, OK; Notice of Technical Conference

March 21, 2012.

Take notice that a technical conference will be held to discuss the section 4(e) conditions filed by the U.S. Forest Service on November 16, 2007 for the Broken Bow Re-Regulation Dam Hydroelectric Project No. 12470.

This conference will be held on Wednesday, April 25, 2012, beginning at 9:30 a.m. (CDT) at the U.S. Forest Service's Hochatown Office, Route 4, Broken Bow, OK 74728.

All local, state, and federal agencies, Indian tribes, and other interested parties are invited to participate. There will be no transcript of the conference. Please contact Aaron Liberty at (202) 502-6862 or Aaron.Liberty@ferc.gov by April 5, 2012, to RSVP.

Nathaniel J. Davis, Sr.,
Deputy Secretary.

[FR Doc. 2012-7774 Filed 3-30-12; 8:45 am]

BILLING CODE 6717-01-P